DEPARTMENT OF ENERGY

Federal Energy Regulatory Commission

[Project No. 8221-094]

Alaska Energy Authority; Notice of Availability of Final Environmental Assessment

In accordance with the National Environmental Policy Act of 1969 and the Federal Energy Regulatory Commission's (Commission or FERC's) regulations, 18 Code of Federal Regulations (CFR) Part 380 (Order No. 486, 52 Federal Register [FR] 47897), the Office of Energy Projects has reviewed Alaska Energy Authority's application for a non-capacity amendment to the license for the Bradley Lake Hydroelectric Project (FERC Project No. 8221), located on the south shore and near the head of Kachemak Bay, 22.5 miles east, northeast of the city of Homer, Kenai Peninsula Borough, Alaska. The project currently occupies a total of 5,498 acres of federal land administered by the Bureau of Land Management.

Staff prepared a final environmental assessment (EA), which analyzes the potential environmental effects of constructing and operating a new diversion on the West Fork of Upper Battle Creek that would divert water to Bradley Lake and thereby increase generation at the project. The final EA concludes that authorizing the amendment, with appropriate environmental protective measures, would not constitute a major federal action that would significantly affect the quality of the human environment.

A copy of the final EA is available for review at the Commission in the Public Reference Room or may be viewed on the Commission's Web site at www.ferc.gov using the “eLibrary” link. Enter the docket number excluding the last three digits in the docket number field to access the document. For assistance, contact FERC Online Support at FERCOnlineSupport@ferc.gov or toll-free at 1-866-208-3676, or for TTY, 202-502-8659.

You may also register online at www.ferc.gov/docs-filing/esubscription.asp to be notified via email of new filings and issuances related to this or other pending projects. For assistance, contact FERC Online Support.

For further information, contact Steven Sachs by telephone at 202-502-8666 or by email at Steven.Sachs@ferc.gov.

Dated: July 13, 2016.
Kimberly D. Bose,
Secretary.

[FR Doc. 2016-17010 Filed 7-18-16; 8:45 am]

BILLING CODE 6717-01-P